DEPARTMENT OF HOMELAND SECURITY

Coast Guard

33 CFR Part 117

[Docket No. USCG-2014-0684]

Drawbridge Operation Regulation; Hackensack River, Little Snake Hill, NJ

AGENCY: Coast Guard, DHS.

ACTION: Notice of deviation from drawbridge regulation.

SUMMARY: The Coast Guard has issued a temporary deviation from the operating schedule that governs the Amtrak Portal Bridge across the Hackensack River, mile 5.0, at Little Snake Hill, New Jersey. The deviation is necessary for installation of new ties, miter rails and drive motors at the bridge. This temporary deviation allows the bridge to remain in the closed position for five nights to perform scheduled maintenance.

DATES: This deviation is effective from 10 p.m. on August 22, 2014 through 6 a.m. on September 27, 2014.

ADDRESSES: The docket for this deviation, [USCG-2014-0684] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Cheryl Collins, Program Manager, Docket Operations, telephone 202-366-9826.

SUPPLEMENTARY INFORMATION: The Amtrak Portal Bridge has a vertical clearance of 23 feet at mean high water and 28 feet at mean low water. The existing drawbridge operating regulations are found at 33 CFR 117.723(e).

The Hackensack River has predominantly commercial vessel traffic of various sizes; however, there are no facilities upstream from the Amtrak Portal Bridge.

The owner of the bridge, National Railroad Passenger Corporation (Amtrak), requested five night time bridge closures to facilitate installation of new ties, miter rails and drive motors at the bridge.

Under this temporary deviation, the Amtrak Portal Bridge may remain in the closed position as follows: From 10 p.m. August 22, 2014 through 6 a.m. on Saturday August 23, 2014; from 10 p.m. on September 5, 2014 through 6 a.m. on September 6, 2014; from 10 p.m. on September 12, 2014 through 6 a.m. on September 13, 2014; from 10 p.m. on September 19, 2014 through 6 a.m. on September 20, 2014 and from 10 p.m. on September 26, 2014 through 6 a.m. on September 27, 2014.

Vessels that can pass under the bridge in the closed position may do so at all times. There are no alternate routes. The bridge can't be opened in the event of an emergency during this bridge maintenance.

In accordance with 33 CFR 117.35(e), the drawbridge must return to its regular operating schedule immediately at the end of the effective period of this temporary deviation. This deviation from the operating regulations is authorized under 33 CFR 117.35.

Dated: July 29, 2014.
C.J. Bisignano,
Supervisory Bridge Management Specialist, First Coast Guard District.

[FR Doc. 2014-18717 Filed 8-6-14; 8:45 am]

BILLING CODE 9110-04-P